DEPARTMENT OF EDUCATION

34 CFR Part 668

[Docket ID ED-2017-OPE-0090]

Program Integrity: Gainful Employment

Correction

Proposed rule document 2018-13054, appearing on pages 28177-28178 in the issue of Monday, June 18, 2018, should have appeared in the Rules section of the issue and the heading should read as set forth above.

[FR Doc. C1-2018-13054 Filed 6-19-18; 8:45 am]

BILLING CODE 1301-00-D